DEPARTMENT OF LABOR

Employment and Training Administration

[TA-W-57,468]

Milwaukee Electric Tool Corporation, Brookfield Plant, Brookfield, WI; Notice of Negative Determination on Reconsideration

On September 12, 2005, the Department issued an Affirmative Determination Regarding Application for Reconsideration for the workers and former workers of the subject firm. The Notice of determination was published in the Federal Register on September 19, 2005 (70 FR 54965). Workers produced electric power tool accessories.

On June 29, 2005, the Department instituted the petition, dated June 24, 2005, filed by a representative of the State of Wisconsin on behalf of workers and former workers of Milwaukee Electric Tool Corporation, Brookfield Plant, Brookfield, Wisconsin. The Department initially denied Trade Adjustment Assistance (TAA) and Alternative Trade Adjustment Assistance (ATAA) to workers and former workers of the subject company because while electric power tool accessory production at the subject facility ceased in December 2004, the subject company's customers did not increase import purchases of electric power tool accessories during the relevant period and production shifted from the subject facility to another domestic location.

In the request for reconsideration, the State representative sought clarification of the Department's negative determination. The State representative inferred that the subject company imported electric power tool accessories and alleged in a telephone conversation that a major customer was importing electric power tool accessories.

The Secretary of Labor may certify as eligible for TAA benefits only those workers who, during the twelve month period prior to the petition date, are employed in the subdivision that produced the article that is adversely affected by imports of like or directly competitive articles. Therefore, the Department requested information from the subject company in order to determine what articles were produced at the subject firm during the relevant period.

Specifically, the Department requested information from the subject company about sales, production, import, and employment figures for Milwaukee Electric Tool Corporation, Brookfield, Wisconsin for the periods 2003, 2004, January through June 2004, and January through June 2005.

The Department received information which confirmed that production ceased in December 2004, that the articles produced during the relevant period are various types of electric power tool accessories (sawzall blades, holesaws and self-feed bits), and that the subject company did not import those articles during the relevant period.

The Department also inquired into the allegation that a major customer was importing electric power tool accessories. The results of the reconsideration investigation refuted this allegation and confirmed that the subject company's major declining customers did not import articles like or directly competitive with those produced at the subject facility during the relevant period.

Conclusion

After reconsideration, I affirm the original notice of negative determination of eligibility to apply for worker adjustment assistance for workers and former workers of Milwaukee Electric Tool Corporation, Brookfield Plant, Brookfield, Wisconsin.

Signed at Washington, DC, this 29th day of November 2005.
Richard Church,
Certifying Officer, Division of Trade Adjustment Assistance.

[FR Doc. E5-7047 Filed 12-7-05; 8:45 am]

BILLING CODE 4510-30-P